INTERNATIONAL TRADE COMMISSION

[Investigation No. 731-TA-1089 (Final)]

Certain Orange Juice From Brazil

Determination

On the basis of the record ¹ developed in the subject investigation, the United States International Trade Commission (Commission) determines,² pursuant to section 735(b) of the Tariff Act of 1930 (19 U.S.C. 1673d(b)) (the Act), that an industry in the United States is materially injured by reason of imports from Brazil of certain orange juice, provided for in subheading 2009.11.00, 2009.12.25, 2009.12.45, and 2009.19.00 of the Harmonized Tariff Schedule of the United States, that have been found by the Department of Commerce (Commerce) to be sold in the United States at less than fair value (LTFV). The Commission makes a negative finding with regard to critical circumstances.

¹ The record is defined in sec. 207.2(f) of the Commission's Rules of Practice and Procedure (19 CFR 207.2(f)).

² Vice Chairman Deanna Tanner Okun, Commissioner Jennifer A. Hillman, and Commissioner Daniel R. Pearson dissenting.

Background

The Commission instituted this investigation effective December 27, 2004, following receipt of a petition filed with the Commission and Commerce by Florida Citrus Mutual, Lakeland, FL; A. Duda & Sons, Inc., Ovieda, FL; Citrus World, Inc., Lake Wales, FL; and Southern Garden Citrus Processing Corp., Clewiston, FL. The final phase of the investigation was scheduled by the Commission following notification of a preliminary determination by Commerce that imports of certain orange juice from Brazil were being sold at LTFV within the meaning of section 733(b) of the Act (19 U.S.C. 1673b(b)). Notice of the scheduling of the final phase of the Commission's investigation and of a public hearing to be held in connection therewith was given by posting copies of the notice in the Office of the Secretary, U.S. International Trade Commission, Washington, DC, and by publishing the notice in the Federal Register of September 7, 2005 (70 FR 53251). The hearing was held in Washington, DC, on January 10, 2006, and all persons who requested the opportunity were permitted to appear in person or by counsel.

The Commission transmitted its determination in this investigation to the Secretary of Commerce on February 27, 2006. The views of the Commission are contained in USITC Publication 3838 (February 2006), entitled Certain Orange Juice from Brazil: Investigation No. 731-TA-1089 (Final).

By order of the Commission.
Issued: February 28, 2006.
Marilyn R. Abbott,
Secretary to the Commission.

[FR Doc. E6-3085 Filed 3-2-06; 8:45 am]

BILLING CODE 7020-02-P